SECURITIES AND EXCHANGE COMMISSION

17 CFR Part 249

Forms, Securities Exchange Act of 1934

CFR Correction

In Title 17 of the Code of Federal Regulations, Part 240 to End, revised as of April 1, 2004, on page 589, remove and reserve § 249.636.

[FR Doc. 04-55519 Filed 11-15-04; 8:45 am]

BILLING CODE 1505-01-D